DEPARTMENT OF HOMELAND SECURITY

Transportation Security Administration

Intent To Request Revision From OMB of One Current Public Collection of Information: Security Appointment Center (SAC) Visitor Request Form and Foreign National Vetting Request

AGENCY: Transportation Security Administration, DHS.

ACTION: 60-Day notice.

SUMMARY: The Transportation Security Administration (TSA) invites public comment on one currently approved Information Collection Request (ICR) Office of Management and Budget (OMB) control number 1652-0068, abstracted below that we will submit to OMB for a revision in compliance with the Paperwork Reduction Act (PRA). The ICR describes the nature of the information collection and its expected burden. The collection involves gathering information from individuals who plan to visit all TSA facilities in the National Capital Region (NCR). In addition, TSA is revising the collection to transition TSA Forms 2802, 2816A, and 2816B into Common Forms to streamline the information collection process.

DATES: Send your comments by May 4, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0068; Security Appointment Center (SAC) Visitor Request Form and Foreign National Vetting Request. The Secretary of the Department of Homeland Security (DHS) is required to protect property owned, occupied, or secured by the Federal Government. See 40 U.S.C. 1315; see also 41 CFR 102-81.15 (requires Federal agencies to be responsible for maintaining security at their own or leased facilities). To implement this requirement, DHS policy requires all visitors to DHS facilities in the NCR ¹ to have a criminal history records check through the National Crime Information Center (NCIC) system before accessing the facility.

¹ TSA facilities in the NCR include TSA Headquarters, the Freedom Center, the Transportation Security Integration Facility (TSIF), the Metro Park office complex (Metro Park), and the Annapolis Junction facility (AJ).

TSA has established a visitor management process that meets DHS requirements. This process allows TSA to conduct business with visitors, including other federal employees and contract employees, while managing risks posed by individuals entering the building who have not been subject to a full employee security background check. Once an individual's access is approved, TSA's Visitor Management System (VMS) generates temporary paper badges with photographs that visitors must wear when entering TSA facilities in the NCR. This badge must be clearly visible for the duration of the individual's visit.

Visitors seeking to enter TSA facilities must also have a TSA-Federal employee as their host, and the host must complete the electronic TSA Form 2802, Security Appointment Center (SAC) Visitor Request Form. TSA Form 2802 requires that the Federal host employee provide the visitor's first and last name, date of birth, date and time of visit, visitor type (e.g., DHS or other government visitor, non-government individual), and whether the visitor is a foreign national visitor.² TSA requests the visitor's social security number (SSN), but providing one's SSN is not required. TSA uses the SSN to ensure accuracy in the identification of the visitor and to expedite vetting. TSA Form 2816A, Foreign National Visitor Request—Individual must be completed for foreign national visitors and for groups consisting of two or more foreign nationals, TSA Form 2816B, Foreign National Visitor Request—Group must be completed. Hard copies of these forms are available at the TSA Visitors' Center. TSA uses the vetting results to determine the suitability of an individual requesting access to the TSA NCR, including whether the individual has a criminal history that would warrant further investigation and review before TSA grants access to the facility. In reviewing the NCIC vetting results, TSA will consider whether an individual could potentially pose a threat to the safety of TSA employees, contractors, visitors, or the facility. TSA also uses the information to maintain records of access to TSA facilities.

² A person who is not a citizen of the United States.

TSA is revising the collection to transition TSA Forms 2802, 2816A, and 2816B into Common Forms. Common Forms permit Federal agency users beyond the agency that created the form (e.g., Department of Homeland Security or U.S. Office of Personnel Management) to streamline the information collection process in coordination with OMB.

TSA estimates the average annual number of visitors to be 29,595, with an annual time burden to the public of 226 hours.

Dated: February 28, 2020.
Christina A. Walsh,
TSA Paperwork Reduction Act Officer, Information Technology.

[FR Doc. 2020-04438 Filed 3-3-20; 8:45 am]

BILLING CODE 9110-05-P